DEPARTMENT OF JUSTICE

Antitrust Division

Notice Pursuant to the National Cooperative Research and Production Act of 1993—Automotive Security Review Board, Inc.

Notice is hereby given that, on July 27, 2016, pursuant to Section 6(a) of the National Cooperative Research and Production Act of 1993, 15 U.S.C. 4301 et seq. (“the Act”), Automotive Security Review Board, Inc. (“ASRB”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Aeris Communications, Inc., Santa Clara, CA; Intel Corporation, Santa Clara, CA; and Uber Technologies Inc., San Francisco, CA. The general area of ASRB's planned activity is research focused on mitigation of future automotive cybersecurity risks.

Patricia A. Brink,
Director of Civil Enforcement, Antitrust Division.

[FR Doc. 2016-19705 Filed 8-17-16; 8:45 am]

BILLING CODE P